DEPARTMENT OF COMMERCE

National Oceanic and Atmospheric Administration

RIN 0648-XA398

Marine Mammals; File No. 116-1691

AGENCY: National Marine Fisheries Service (NMFS), National Oceanic and Atmospheric Administration (NOAA), Commerce.

ACTION: Notice; issuance of permit amendment.

SUMMARY: Notice is hereby given that Sea World LLC, Sea World of San Diego, 500 SeaWorld Drive, San Diego, California 92109 [Todd Robeck, D.V.M, PhD, Responsible Party and Principal Investigator (PI)] has been issued a minor amendment to Scientific Research Permit No. 116-1691-01.

ADDRESSES: The amendment and related documents are available for review upon written request or by appointment in the following offices:

Permits, Conservation and Education Division, Office of Protected Resources, NMFS, 1315 East-West Highway, Room 13705, Silver Spring, MD 20910; phone (301) 713-2289; fax (301) 713-0376; and

Southwest Region, NMFS, 501 West Ocean Blvd., Suite 4200, Long Beach, CA 90802-4213; phone (562) 980-4001; fax (562) 980-4018.

FOR FURTHER INFORMATION CONTACT: Jennifer Skidmore and Amy Sloan, (301) 713-2289.

SUPPLEMENTARY INFORMATION: The requested amendment has been granted under the authority of the Marine Mammal Protection Act of 1972, as amended (16 U.S.C. 1361 et seq.) and the regulations governing the taking and importing of marine mammals (50 CFR part 216).

The original permit (No. 116-1691), issued on September 8, 2006 (71 FR 53089) authorized the permit holder to collect, receive, import, and export marine mammal specimens for scientific research purposes through August 31, 2011. The minor amendment (No. 116-1691-02) extends the duration of the permit through August 31, 2012, but does not change any other terms or conditions of the permit.

Dated: May 2, 2011.
P. Michael Payne,
Chief, Permits, Conservation and Education Division, Office of Protected Resources, National Marine Fisheries Service.

[FR Doc. 2011-11149 Filed 5-5-11; 8:45 am]

BILLING CODE 3510-22-P